POSTAL SERVICE

39 CFR Part 111

Address Correction Notices

AGENCY: Postal Service™.

ACTION: Final rule.

SUMMARY: The Postal Service is amending Mailing Standards of the United States Postal Service, Domestic Mail Manual (DMM®) sections 507.4.2.6 and 705.23, to update information regarding address correction requests and to remove hardcopy address correction notice options for Full-Service and Seamless Acceptance mailers.

DATES: Effective Date: July 9, 2023.

FOR FURTHER INFORMATION CONTACT: Starlene Blackwood at (901) 681-4475 or Garry Rodriguez at (202) 268-7281.

SUPPLEMENTARY INFORMATION: On November 9, 2022, the Postal Service published a notice of proposed rulemaking (87 FR 67615-67617) to update information regarding address correction requests and to remove hardcopy address correction notice options for Full-Service and Seamless Acceptance mailers. In response to the proposed rule, the Postal Service received two formal responses containing several comments as follows:

Comment: Incorrect address information has plagued the system for decades. ACS data even lags local information sources, which may cause a list to be updated to an old address. Publishers find the hard-copy notices preferable due to them being easier to read, issues with notice can easily be identified before updating a database. An automated process carries substantial risk that error will not be spotted.

Response: ACS and Manual address corrections are generated using the same data source. Manual notices are delayed due to the process required to print, mail, and deliver the forms. Automated download of ACS notices is an option but not required. The SingleSource ACS™ fulfillment option, available on PostalPro at postalpro.usps.com, offers customers an option to download and review a printable report prior to updating.

Comment: Publishers are wary of automatic download because some may not have the knowledge to manage this type of set-up.

Response: Automated download of ACS notices is an option but not required. The SingleSource ACS fulfillment option, available on PostalPro offers customers an option to download and review a printable report prior to updating.

Comment: Electronic records require electronic skills. The smaller newspapers do not have the technical staff on site and no available personnel with the skills to merge records electronically. The hard-copy notices keep them in business.

Response: ACS and Manual address corrections are generated using the same data source. Manual notices are delayed due to the process required to print, mail, and deliver the forms. Automated download of ACS notices is an option but not required. The SingleSource ACS fulfillment option, available on PostalPro, offers customers an option to download and review a printable report prior to updating.

Comment: The Business Customer Gateway is not intuitive. Publishers do not know they need to perform additional steps to receive the service, so they don't sign up. There is no easy manual for navigating through BCG if all the publisher wants to do is enroll in/use ACS. Also, there may be an added expense of hiring someone to complete set up, thus making the hardcopy notice easy as a traditional tool.

Response: Single Source ACS is an available option which removes the need for handling different file formats and allows customers to download a printable report. Customers can also reach out to the Mailing Shipping & Solution Center for assistance with the Business Customer Gateway by calling 1-877-672-0007 or email MSSC@usps.gov.

Comment: This proposal may lead to more undelivered newspapers due to not being able to find the bandwidth to learn ACS, execute regular updates and incorporate changes. Lengthening the lead time for adoption could help to avoid this possibility.

Response: The Postal Service will not implement this change until July 9, 2023 and will work closely with customers to ensure they understand the ACS requirements. Also, there is the Single Source ACS option available.

Comment: The proposal may introduce a new entry barrier for enrollment into Full-Service. Full Service adoption requires software programming time, changes in address label printing and attention to certain compliance issues. The return on this time and resource investment is extraordinarily meager.

Response: Only the full-service automation option mailers will be affected by this change beginning July 9, 2023. Non full-service automation option mailers are encouraged to migrate over to the full-service automation option so they can take advantage of additional discounts offered.

Comment: Clarity is needed around the statement “Participating Full-Service and Seamless Acceptance mailers receive ACS notices at no charge. As a result, notices provided to mailers in this format has far exceeded the volume of returned mail and PS Forms 3547 and 3579 requested and generated from undeliverable Full-Service and Seamless Acceptance mail.” What is the problem that the USPS is trying to solve with the proposed changes?

Response: This initiative reduces the cost of printing, processing, and mailing of a separate hardcopy address notice, PS Form 3547 and 3579.

Comment: Seamless Acceptance must also be Full Service, so the reference to Seamless Acceptance mailers in this context appears unnecessary and confusing.

Response: Full Service and Seamless Acceptance are commonly used synonymously, however, there is a distinction. A mailer can submit a full-service mailing and not be considered a Seamless mailer. Mailers participating in Seamless Acceptance are identified by CRID and assessed differently than a Full-Service mailer.

Comment: Volume analysis needs to be conducted to determine the volume of Full-Service mail that would be impacted by this rule change because the data points provided point to a significant percent of the volume.

Response: The Postal Service performed an analysis which was considered in the decision to move forward with this effort. Of the 33.5M forms produced in FY22, nearly 60% of those were produced by full-service automation option mailers.

Comment: Clarification is needed for “Return Service Requested” ASE. Is the USPS proposing to eliminate these notices?

Response: The Postal Service is not proposing to eliminate the “Return Service Requested” ancillary service endorsement. Return Service Requested is an on-piece address correction notice and does not produce a separate notice PS Form 3547.

Comment: Compliance can be burdensome and costly for small business customers. MSPs may be responsible for printing the ACS STIDs in IMbs for their customers, we do not provide ACS services to the customer. A small business may only mail a small volume of pieces per day and only have 10 ACS notices per month. For these low volume mailers, the cost of the software, resources and systems need to utilize electronic/automated ACS notices can be significant. Even if these low volume mailers could afford to invest the necessary money and resources, who would provide the education and customer support to move them into the electronic environment?

Response: The SingleSource ACS option is available, which removes the need for handling different file formats and allows customers to download a printable report. There is no cost to sign up for SingleSource ACS.

Comment: While the goal of reducing manual address correction notices is supported, a more collaborative effort is needed to identify reasons that mailers may continue to elect to receive manual correction notices. It is recommended the Postal Service defer implementation of the proposed changes until such time as an MTAC group can be formed and work through potential alternatives to help reduce the volume of manual ACS notices.

Response: The Postal Service has already communicated this effort through multiple MTAC User Groups for input. This is not an immediate action, it is schedule to begin July 9, 2023.

The Postal Service is removing the option to request PS Forms 3547, Notice to Mailer of Correction in Address, and PS Form 3579, Notice of Undeliverable Periodical, for Full-Service and Seamless Acceptance mailers.

Full Service and Seamless Acceptance mailers and publishers that desire address correction information from undeliverable as addressed (UAA) mail will be required to receive address correction notices electronically via ACS. Those mailers that apply the ancillary service endorsement “Address Service Requested” or “Change Service Requested” to their mail, and Periodical publishers will receive ACS notices via the Data Distribution Dashboard from the Business Customer Gateway or by enrolling in the Electronic Product Fulfillment (EPF) secure website at https://epf.usps.gov. When appropriate, the electronic or automated address correction fees will be charged for each ACS notice provided.

The Postal Service is implementing this change effective July 9, 2023. However, mailers that currently request manual address corrections via PS Form 3547 or PS Form 3579 may begin to request ACS immediately.

The Postal Service adopts the following changes to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401- 404, 414, 416, 3001-3018, 3201-3220, 3401-3406, 3621, 3622, 3626, 3629, 3631- 3633, 3641, 3681-3685, and 5001.

2. Revise the Mailing Standards of the United States Postal Service, Domestic Mail Manual (DMM) as follows:

Mailing Standards of the United States Postal Service, Domestic Mail Manual (DMM)

* * * * *

500 Additional Mailing Services

* * * * *

507 Mailer Services

* * * * *

4.0 Address Correction Services

* * * * *

4.2 Address Change Service (ACS)

* * * * *

4.2.6 Additional Standards—When Using Intelligent Mail Barcodes

[Revise the introductory text of 4.2.6 to read as follows:]

Mailers can access OneCode ACS using an Intelligent Mail barcode, which contains a valid Service Type Identifier indicating the ancillary service requested; a numeric Mailer ID; and the Serial Number, a unique numeric mailpiece identifier (Keyline equivalent). This option is available for letters and flat size pieces mailed as First-Class Mail, USPS Marketing Mail, and Periodicals. Address Service, Change Service and Return Service Ancillary Services are available for letters and flat-sized mail pieces mailed as First-Class Mail, USPS Marketing Mail, and Bound Printed Matter (BPM), by choosing the appropriate ACS Service Type Identifier in the Intelligent Mail barcode. USPS Marketing Mail and Bound Printed Matter pieces with ACS using an Intelligent Mail barcode require the use of a printed on-piece endorsement. ACS mailers are encouraged to use the “Electronic Service Requested” text endorsement. Other printed endorsements are not required to request ancillary services in conjunction with an Intelligent Mail barcode used on First-Class Mail or Periodicals mailpieces, and their use may produce unintended results. Full-Service and Seamless Acceptance mailers that desire separate address corrections using Address Service and Change Service ancillary services must request ACS and will receive the ACS notices through Full Service. See 705.23.5.2 for additional standards. For other mailers, in order to receive requested ACS information, mailers must notify the NCSC, ACS Department in Memphis, TN, in writing, seven days prior to mailing to establish a method for ACS notice fulfillment and to arrange for payment of electronic or automated address correction fees. Mailpieces must meet the following specifications:

* * * * *

700 Special Standards

* * * * *

705 Advanced Preparation and Special Postage Payment Systems

* * * * *

23.0 Full-Service Automation Option

* * * * *

23.5 Additional Standards

* * * * *

23.5.2 Address Correction Notices

[Revise the text of 23.5.2 to read as follows:]

Mailers presenting mailpieces (except for those noted below) that qualify for the full-service Intelligent Mail option will receive automated address correction notices electronically when the pieces are encoded with Intelligent Mail barcodes with “Address Service Requested” or “Change Service Requested” under standards for OneCode ACS and under the following conditions:

a. Mailpieces must include the appropriate ACS service type ID in the Intelligent Mail barcode to match the ancillary service requested. See 507.1.5 for mail disposition and address correction combinations by class of mail.

b. Complimentary ACS ancillary service address correction notices for mailpieces in full-service mailings are available for:

1. First-Class Mail letters and flats, provided at no charge (printed endorsement not required for letters).

2. Periodicals letters and flats, provided at no charge (printed endorsement not required).

3. USPS Marketing Mail letters and flats or BPM flats, provided at no charge. USPS Marketing Mail and BPM pieces must include a printed on-piece endorsement in addition to encoding the ACS ancillary service request into the Intelligent Mail barcode. See 507.4.2 for additional standards.

c. Mailers must use the ACS address correction information provided by USPS to update their address records to receive notices without paying additional fees. Beginning July 9, 2023, address corrections will only be provided electronically in the Business Customer Gateway under Mailing Reports utilizing the Data Distribution and Informed Visibility Dashboard

d. A new Service Type Identifier (STID) Table will be published on PostalPro removing all STID references for manual corrections when mailers present qualifying Full-Service mail.

* * * * *

Tram T. Pham,
Attorney, Ethics and Legal Compliance.

[FR Doc. 2023-02309 Filed 2-6-23; 8:45 am]

BILLING CODE 7710-12-P